DEPARTMENT OF COMMERCE

International Trade Administration

Notice of Consolidated Decision on Applications for Duty-Free Entry of Electron Microscopes; U.S. Food and Drug Adminsitration, et al.

This is a decision consolidated pursuant to Section 6(c) of the Educational, Scientific, and Cultural Materials Importation Act of 1966 (Pub. L. 89-651, as amended by Pub. L. 106-36; 80 Stat. 897; 15 CFR part 301). Related records can be viewed between 8:30 A.M. and 5:00 P.M. in Room 3705, U.S. Department of Commerce, 14th and Constitution Avenue., NW, Washington, D.C.

Docket Number: 09-015. Applicant: U.S. Food and Drug Administration, Laurel, MD 20708. Instrument: Electron Microscope. Manufacturer: JEOL, Japan. Intended Use: See notice at 74 FR 27017, June 5, 2009.

Docket Number: 09-023. Applicant: Florida State University, Tallahassee, FL 32306. Instrument: Electron Microscope. Manufacturer: FEI Company, the Netherlands. Intended Use: See notice at 74 FR 27017, June 5, 2009.

Docket Number: 09-024. Applicant: National Institutes of Health, Bethesda, MD 20895-3210. Instrument: Electron Microscope. Manufacturer: FEI Company, the Netherlands. Intended Use: See notice at 74 FR 27017, June 5, 2009.

Docket Number: 09-025. Applicant: University of Virginia, Charlottesville, VA 22908. Instrument: Electron Microscope. Manufacturer: FEI Company, Czech Republic. Intended Use: See notice at 74 FR 27017, June 5, 2009.

Docket Number: 09-026. Applicant: Yale University School of Medicine, New Haven, CT 06520. Instrument: Electron Microscope. Manufacturer: FEI Company, the Netherlands. Intended Use: See notice at 74 FR 27017, June 5, 2009.

Comments: None received. Decision: Approved. No instrument of equivalent scientific value to the foreign instrument, for such purposes as these instruments are intended to be used, was being manufactured in the United States at the time the instruments were ordered. Reasons: Each foreign instrument is an electron microscope and is intended for research or scientific educational which was being manufactured in the United States at the time of order of each instrument.

Dated: July 1, 2009.
Christopher Cassel,
Acting Director Subsidies Enforcement Office Import Administration.

[FR Doc. E9-16290 Filed 7-8-09; 8:45 am]

BILLING CODE 3510-DS-S